DEPARTMENT OF COMMERCE

Bureau of Industry and Security

15 CFR Parts 732, 738, 746, 758 and 774

[Docket No. 021009232-2232-01]

RIN 0694-AC57

Exports and Reexports to the Federal Republic of Yugoslavia: Lifting of UN Arms Embargo-Based Controls; Clarification of UN Arms Embargo-Based Controls on Rwanda

AGENCY: Bureau of Industry and Security, Commerce.

ACTION: Final rule.

SUMMARY: This rule amends the Export Administration Regulations (EAR) by removing the special controls on the export and reexport of arms-related items imposed on July 14, 1998 on the Federal Republic of Yugoslavia (Serbia and Montenegro) (FRY). Consequently, arms embargo-based licensing requirements for exports and reexports of certain items subject to the EAR (e.g., water cannon) to the FRY are removed, and a case-by-case license review policy is reinstated for the export and reexport of items controlled for regional stability and crime control reasons. This rule is consistent with United Nations Security Council (UNSC) Resolution 1367 of September 10, 2001, which terminated the international arms embargo against the FRY mandated by UNSC Resolution 1160 of March 3, 1998. This rule also makes a minor clarification to the arms embargo-based controls in place with respect to Rwanda pursuant to UNSC Resolution 918 of May 17, 1994.

DATES: This rule is effective November 25, 2002.

FOR FURTHER INFORMATION CONTACT: Joan Roberts, Director, Foreign Policy Division, Office of Strategic Trade and Foreign Policy Controls, Bureau of Industry and Security, Telephone (202) 482-0171, e-mail jroberts@bis.doc.gov.

SUPPLEMENTARY INFORMATION:

Background

Consistent with United Nations Security Council (UNSC) Resolution 1160 of March 3, 1998, the Bureau of Industry and Security (BIS), formerly the Bureau of Export Administration (BXA), imposed new controls on the export and reexport of arms-related items subject to the EAR to the Federal Republic of Yugoslavia (Serbia and Montenegro) (FRY). UNSC Resolution 1160 mandated an embargo on the sale or supply of arms and arms-related matériel to the FRY. On July 14, 1998, BIS issued a rule consistent with the UNSC embargo against the FRY, applying a policy of denial on the export and reexport of items controlled for crime control and regional stability reasons and making additional items subject to control (e.g, certain shotgun shells, military helmets, water cannon and certain civil aircraft). BIS placed the specific provisions that implemented the embargo in section 746.9 of the EAR.

On September 10, 2001, in Resolution 1367, the UNSC terminated the international arms embargo against the FRY. Consistent with UNSC Resolution 1367, this rule removes the provisions in section 746.9 of the EAR that implemented the arms embargo against the FRY. With the publication of this rule, BIS is removing the UN arms embargo-based license requirements for the export and reexport of items controlled under Export Classification Control Numbers (ECCNs) 0A018, 0A984, 0A985, 0A986, 0A987, 0A988, 0B986, 0E018, 0E984, 1A005, 1B018, 1C018, 1C992 1D018, 2A993, 2B018, 2D018, 2E018, 6A002, 6A003, 6A018, 6E001, 6E002, 8A018, 9A018, 9A991, 9D018, 9E018 to the FRY. BIS is removing altogether ECCN 0A989, water cannon and specially designed components for water cannon, because it was a UN arms embargo-based control applying solely to the FRY. BIS also is reinstating a case-by-case licensing policy for the export and reexport of these items controlled for crime control or regional stability reasons destined to the FRY.

This rule also adds a new note number 4 in the License Exception sections of entries for “Technology” controlled by ECCNs 6E001 and 6E002, making License Exception Technology and Software under Restriction (TSR) unavailable for exports or reexports of 6E001 and 6E002 “Technology” to Rwanda, which is still subject to a UN arms embargo pursuant to UNSC Resolution 918 of May 17, 1994. With respect to Rwanda, “Technology” controlled by ECCN 6E001 is for the “development” of equipment, materials or “software” controlled by Category 6A002 or 6A003, and “Technology” controlled by ECCN 6E002 is for the “production” of equipment or materials controlled by 6A002 or 6A003. The license requirements for Rwanda are set forth in section 746.8 of the EAR.

Finally, this rule makes changes to sections 732.3 and 758.1 of the EAR to reflect the removal of the UN arms embargo-based controls against the FRY and removes Supplement 2 to part 746 describing international arms embargoes administered by the Department of State. For information on such embargoes, exporters are advised to consult with the Department of State, Office of Defense Trade Controls.

Rulemaking Requirements

1. This final rule has been determined to be not significant for purposes of E.O. 12866.

2. Notwithstanding any other provision of law, no person is required to respond to, nor shall any person be subject to a penalty for failure to comply with a collection of information, subject to the requirements of the Paperwork Reduction Act (PRA), unless that collection of information displays a currently valid OMB Control Number. This rule involves collections of information subject to the Paperwork Reduction Act of 1995 (44 U.S.C. 3501 et seq.) These collections have been approved by the Office of Management and Budget under control number 0694-0088, “Multi-Purpose Application,” which carries a burden hour estimate of 40 minutes to prepare and submit electronically and 45 minutes to submit manually on form BIS-748P. Send comments regarding these burden estimates or any other aspect of these collections of information, including suggestions for reducing the burden, to OMB Desk Officer, New Executive Office Building, Washington, DC 20503; and to the Regulatory Policy Division, Bureau of Industry and Security, Department of Commerce, P.O. Box 273, Washington, DC 20044.

3. This rule does not contain policies with Federalism implications sufficient to warrant preparation of a Federalism assessment under Executive Order 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable.

Therefore, this regulation is issued in final form. Although there is no formal comment period, public comments on this regulation are welcome on a continuing basis. Comments should be submitted to Sheila Quarterman, Regulatory Policy Division, Bureau of Industry and Security, Department of Commerce, P.O. Box 273, Washington, DC 20044.

List of Subjects

15 CFR Part 732

Administrative practice and procedure, Exports, Foreign trade, Reporting and recordkeeping requirements.

15 CFR Part 738

Administrative practice and procedure, Exports, Foreign trade.

15 CFR Part 746

Embargoes, Exports, Foreign trade, Reporting and recordkeeping requirements.

15 CFR Part 758

Administrative practice and procedure, Exports, Foreign trade, Reporting and recordkeeping, requirements.

15 CFR Part 774

Exports, Foreign Trade.

Accordingly, parts 732, 738, 746, 758 and 774 of the Export Administration Regulations (15 CFR parts 730-799) are amended as follows:

PART 732—[AMENDED]

1. The authority citation for part 732 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 14, 2002, 67 FR 53721, August 16, 2002.

§ 732.3 [Amended]

2. Section 732.3 is amended:

a. By revising the phrase “For Angola, Bosnia-Herzegovina, Croatia, Rwanda, and Serbia and Montenegro” in paragraph (d)(4) to read “For Angola and Rwanda”; and

b. By revising the phrase “If your destination for any item is Bosnia-Herzegovina, Croatia, Cuba, Iran, Iraq, Libya, Rwanda, or Serbia and Montenegro you must consider the requirements of part 746 of the EAR.” in introductory text in paragraph (i) to read “If your destination for any item is Cuba, Iran, Iraq, Libya or Rwanda you must consider the requirements of parts 742 and 746 of the EAR.”

PART 738—[AMENDED]

3. The authority citation for part 738 continues to read as follows:

Authority: 50 U.S.C. app. 2401 et seq.; 50 U.S.C. 1701 et seq.; 10 U.S.C. 7420; 10 U.S.C. 7430(e); 18 U.S.C. 2510 et seq.; 22 U.S.C. 287c; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; Sec. 901-911, Publ. L. 106-387; Sec. 221, Publ. L. 107-56; E.O. 13026, 61 FR 58767, 3 CFR, 1996 Comp., p. 228; E.O. 13222, 66 FR 44025, 3 CFR, 2001 Comp., p. 783; Notice of August 14, 2002, 67 FR 53721, August 16, 2002.

4. Supplement No. 1 to Part 738 is amended by removing the footnote notation “1” from the entry “Yugoslavia (Serbia and Montenegro), Federal Republic of”.

PART 746—[AMENDED]

5. The authority citation for part 746 is revised to read as follows:

Authority: 50 U.S.C. app. 2401 et seq.; 50 U.S.C. 1701 et seq.; 22 U.S.C. 287c; 22 U.S.C. 6004; Sec. 901-911, Publ. L. 106-387; Sec. 221, Publ. L. 107-56; E.O. 12854, 58 FR 36587, 3 CFR 1993 Comp., p. 614; E.O. 12918, 59 FR 28205, 3 CFR, 1994 Comp., p. 899; E.O. 13222, 3 CFR, 2001 Comp., p. 783; Notice of August 14, 2002, 67 FR 53721, August 16, 2002.

§ 746.1 [Amended]

6. Section 746.1 is amended by removing paragraphs (e) and (f).

§ 746.9 [Removed]

7. Section 746.9 is removed and reserved.

8. Supplement No. 2 to Part 746 is removed and reserved.

PART 758—[AMENDED]

9. The authority citation for part 758 continues to read as follows:

Authority: 50 U.S.C. app. 2401 et seq.; 50 U.S.C. 1701 et seq.; E.O. 13222, 66 FR 44025, 3 CFR, 2001 Comp., p. 783; Notice of August 14, 2002, 67 FR 53721, August 16, 2002.

§ 758.1 [Amended]

10. Section 758.1 is amended by revising the phrase “For all exports of items subject to the EAR that are destined to Cuba, Iran, Iraq, Libya, North Korea, Serbia (except Kosovo), Sudan, or Syria,” in paragraph (b)(1) to read “For all exports of items subject to the EAR that are destined to Cuba, Iran, Iraq, Libya, North Korea, Sudan, or Syria,”.

* * * * *

PART 774—[AMENDED]

11. The authority citation for part 774 continues to read as follows:

Authority: 50 U.S.C. app. 2401 et seq.; 50 U.S.C. 1701 et seq.; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 14, 2002, 67 FR 53721, August 16, 2002.

12. In Category 0—Nuclear Materials, Facilities, and Equipment [and Miscellaneous Items], the following Export Classification Numbers (ECCN's) are amended:

a. By revising the “License Requirements” section and the “License Exceptions” section for ECCNs 0A018 and 0E018;

b. By revising the “License Requirements” section for ECCNs 0A984, 0A985, 0A986, 0A987, 0A988, 0B986, and 0E984; and

c. By removing ECCN 0A989, to read as follows:

0A018 Items on the International Munitions List.

License Requirements

Reason for Control: NS, AT, UN.

Control(s) | Country chart
NS applies to entire entry | NS Column 1.
AT applies to entire entry | AT Column 1.
UN applies to entire entry | Rwanda.

License Exceptions

LVS: $5000 for 0A018.a and .b, $3000 for 0A018.c, $1500 for 0A018.d through .f, $0 for Rwanda

GBS: N/A

CIV: N/A

* * * * *

0A984 Shotguns, barrel length 18 inches (45.72 cm) inches or over; buckshot shotgun shells; except equipment used exclusively to treat or tranquilize animals, and except arms designed solely for signal, flare, or saluting use; and parts, n.e.s.

License Requirements

Reason for Control: CC, FC, UN.

Control(s) | Country chart
FC applies to entire entry | FC Column 1.
CC applies to shotguns with a barrel length greater than or equal to 18 in. (45.72 cm), but less than 24 in. (60.96 cm) or buckshot shotgun shells controlled by this entry, regardless of end-user | CC Column 1.
CC applies to shotguns with a barrel length greater than or equal to 24 in. (60.96 cm), regardless of end-user | CC Column 2.
CC applies to shotguns with a barrel length greater than or equal to 24 in. (60.96 cm) if for sale or resale to police or law enforcement | CC Column 3.
UN applies to entire entry | Rwanda.

* * * * *

0A985 Discharge type arms (for example, stun guns, shock batons, electric cattle prods, immobilization guns and projectiles) except equipment used exclusively to treat or tranquilize animals, and except arms designed solely for signal, flare, or saluting use; and parts, n.e.s.

License Requirements

Reason for Control: CC, UN.

Control(s) |
CC applies to entire entry. A license is required for ALL destinations, except Canada, regardless of end-use. Accordingly, a column specific to this control does not appear on the Commerce Country Chart. (See part 742 of the EAR for additional information.)
UN applies to entire entry | Rwanda.

* * * * *

0A986 Shotgun shells, except buckshot shotgun shells, and parts.

License Requirements

Reason for Control: AT, FC, UN.

Control(s) | Country chart
AT applies to entire entry. A license is required for items controlled by this entry to North Korea for anti-terrorism reasons. The Commerce Country Chart is not designed to determine AT licensing requirements for this entry. See § 742.19 of the EAR for additional information.
FC applies to entire entry | FC Column 1.
UN applies to entire entry. A license is required for items controlled by this entry to Rwanda. The Commerce Country Chart is not designed to determine licensing requirements for this entry. See part 746 of the EAR for additional information.

* * * * *

0A987 Optical sighting devices for firearms (including shotguns controlled by 0A984); and parts, n.e.s.

License Requirements

Reason for Control: FC, CC, UN.

Control(s) | Country chart
FC applies to optical sights for firearms, including shotguns described in ECCN 0A984, and related parts | FC Column 1.
CC applies to entire entry | CC Column 1.
UN applies to entire entry | Rwanda.

* * * * *

0A988 Conventional military steel helmets as described by 0A018.f.1; and machetes.

License Requirements

Reason for Control: UN.

Control(s): UN applies to entire entry. A license is required for conventional military steel helmets as described by 0A018.f.1 to Rwanda. A license is required for machetes to Rwanda. The Commerce Country Chart is not designed to determine licensing requirements for this entry. See part 746 of the EAR for additional information.

* * * * *

0B986 Equipment specially designed for manufacturing shotgun shells; and ammunition hand-loading equipment for both cartridges and shotgun shells.

License Requirements

Reason for Control: AT, UN.

Control(s): AT applies to entire entry. A license is required for items controlled by this entry to North Korea for anti-terrorism reasons. The Commerce Country Chart is not designed to determine AT licensing requirements for this entry. See § 742.19 of the EAR for additional information.

UN applies to entire entry. A license is required for items controlled by this entry to Rwanda. The Commerce Country Chart is not designed to determine licensing requirements for this entry. See part 746 of the EAR for additional information.

* * * * *

0E018 “Technology” for the “development”, “production”, or “use” of items controlled by 0A018.b through 0A018.e.

License Requirements

Reason for Control: NS, UN, AT.

Control(s) | Country chart
NS applies to entire entry | NS Column 1.
UN applies to entire entry | Rwanda.
AT applies to entire entry | AT Column 1.

License Exceptions

CIV: N/A

TSR: Yes, except N/A for Rwanda

* * * * *

0E984 “Technology” for the “development” or “production” of shotguns controlled by 0A984 and buckshot shotgun shells.

License Requirements

Reason for Control: CC, UN.

Control(s) | Country chart
CC applies to “technology” for shotguns with a barrel length over 18 in. (45.72 cm) but less than 24 in. (60.96 cm) and shotgun shells, regardless of end-user | CC Column 1.
CC applies to “technology” for shotguns with a barrel length over 24 in. (60.96 cm), regardless of end-user | CC Column 2.
CC applies to “technology” for shotguns with a barrel length over 24 in. (60.96 cm) if for sale or resale to police or law enforcement | CC Column 3.
UN applies to entire entry | Rwanda.

* * * * *

13. In Category 1—Materials, Chemicals, “Microoganisms” & “Toxins”, the following Export Control Classification Numbers (ECCNs) are amended:

a. By revising the “License Requirements” section and “License Exceptions” section for ECCNs 1B018 and 1C018; and

b. By revising the “License Requirements” section for ECCNs 1A005, 1C992, and 1D018, to read as follows:

1A005 Body armor, and specially designed components therefor, not manufactured to military standards or specifications, nor to their equivalents in performance.

License Requirements

Reason for Control: NS, UN, AT.

Control(s) | Country chart
NS applies to entire entry | NS Column 2.
UN applies to entire entry | Rwanda.
AT applies to entire entry | AT Column 1.

* * * * *

1B018 Equipment on the International Munitions List.

License Requirements

Reason for Control: NS, MT, RS, AT, UN.

Control(s) | Country chart
NS applies to entire entry | NS Column 1.
MT applies to equipment for the “production” of rocket propellants | MT Column 1.
RS applies to 1B018.a | RS Column 2.
AT applies to entire entry | AT Column 1.
UN applies to entire entry | Rwanda.

License Exceptions

LVS: $3000 for 1B018.a for countries WITHOUT an “X” in RS Column 2 on the Country Chart contained in Supplement No. 1 to part 738 of the EAR; $5000 for 1B018.b; N/A for Rwanda.

GBS: N/A

CIV: N/A

* * * * *

1C018 Commercial charges and devices containing energetic materials on the International Munitions List.

License Requirements

Reason for Control: NS, AT, UN.

Control(s) | Country chart
NS applies to entire entry | NS Column 1.
AT applies to entire entry | AT Column 1.
UN applies to entire entry | Rwanda.

License Exceptions

LVS: $3000, except N/A for Rwanda

GBS: Yes for items listed in Advisory Note to 1C018, except N/A for Rwanda

CIV: N/A

* * * * *

1C992 Commercial charges and devices containing energetic materials, n.e.s.

License Requirements

Reason for Control: AT.

Control(s) | Country chart
AT applies to entire entry | AT Column 1.

* * * * *

1D018 “Software” specially designed or modified for the “development”, “production”, or “use” of items controlled by 1B018.

License Requirements

Reason for Control: NS, MT, AT, UN.

Control(s) | Country chart
NS applies to entire entry | NS Column 1.
MT applies to “software” for the “development”, “production”, or “use” of items controlled by 1B018 for MT reasons | MT Column 1.
AT applies to entire entry | AT Column 1.
UN applies to entire entry | Rwanda.

* * * * *

14. In Category 2—Materials Processing, the following Export Control Classification Numbers (ECCNs) are amended:

a. By revising the “License Requirements” section of ECCN 2A993; and

b. By revising the “License Requirements” section and the “License Exceptions” section for ECCNs 2B018, 2D018, and 2E018, to read as follows:

2A993 Explosive detection systems, consisting of an automated device, or combination of devices, with the ability to detect the presence of different types of explosives, in passenger checked baggage, without need for human skill, vigilance, or judgment.

License Requirements

Reason for Control: AT

Control(s) | Country chart
AT applies to entire entry | AT Column 1.

* * * * *

2B018 Equipment on the International Munitions List.

License Requirements

Reason for Control: NS, MT, RS, AT, UN.

Control(s) | Country chart
NS applies to entire entry | NS Column 1.
MT applies to specialized machinery, equipment, and gear for producing rocket systems (including ballistic missile systems, space launch vehicles, and sounding rockets) and unmanned air vehicle systems (including cruise missile systems, target drones, and reconnaissance drones) usable in systems that are controlled for MT reasons including their propulsion systems and components, and pyrolytic deposition and densification equipment | MT Column 1.
RS applies to entire entry | RS Column 2.
AT applies to entire entry | AT Column 1.
UN applies to entire entry | Rwanda.

License Exceptions

LVS: $3000, except N/A for Rwanda

GBS: Yes for Advisory Note in this entry to 2B018, except N/A for Rwanda

CIV: N/A

* * * * *

2D018 “Software” for the “development”, “production” or “use” of equipment controlled by 2B018.

License Requirements

Reason for Control: NS, MT, AT, UN.

Control(s) | Country chart
NS applies to entire entry | NS Column 1.
MT applies to “software” for equipment controlled by 2B018 for MT reasons | MT Column 1.
AT applies to entire entry | AT Column 1.
UN applies to entire entry | Rwanda.

License Exceptions

CIV: N/A

TSR: Yes, except N/A for Rwanda

* * * * *

2E018 “Technology” for the “use” of equipment controlled by 2B018.

License Requirements

Reason for Control: NS, MT, AT, UN.

Control(s) | Country chart
NS applies to entire entry | NS Column 1.
MT applies to “technology” for equipment controlled by 2B018 for MT reasons | MT Column 1.
AT applies to entire entry | AT Column 1.
UN applies to entire entry | Rwanda.

License Exceptions

CIV: N/A

TSR: Yes, except N/A for Rwanda

* * * * *

15. In Category 6—Sensors and Lasers, the following Export Control Classification Numbers (ECCNs) are amended by revising the “License Requirements” section for ECCNs 6A002 and 6A003 and “License Requirements” section and the “License Exceptions” section for ECCNs 6A018, 6E001, and 6E002, to read as follows:

6A002 Optical sensors.

License Requirements

Reason for Control: NS, MT, CC, RS, AT, UN.

Control(s) | Country chart
NS applies to entire entry | NS Column 2.
MT applies to optical detectors in 6A002.a.1, a.3, and .e that are specially designed or rated as electomagnetic (including and ionized particle radiation resistant | MT Column 1.
RS applies to 6A002.a.1, a.2, a.3 and .c | RS Column 1.
CC applies to police-model infrared viewers in 6A002.c | CC Column 1.
AT applies to entire entry | AT Column 1.
UN applies to 6A002.a.1, a.2 a.3 and c | Rwanda.

License Requirement Notes: See § 743.1 of the EAR for reporting requirements for exports under License Exceptions.

* * * * *

6A003 Cameras.

License Requirements

Reason for Control: NS, NP, RS, AT, UN.

Control(s) | Country chart
NS applies to entire entry | NS Column 2.
NP applies to items controlled in paragraphs 6A003.a.2, a.3 and a.4 | NP Column 1.
RS applies to items controlled in 6A003.b.3 and b.4 | RS Column 1.
AT applies to entire entry | AT Column 1.
UN applies to items controlled in 6A003.b.3 and b.4 | Rwanda.

* * * * *

6A018 Magnetic, pressure, and acoustic underwater detection devices specially designed for military purposes and controls and components therefor.

License Requirements

Reason for Control: NS, AT, UN.

Control(s) | Country chart
NS applies to entire entry | NS Column 1.
AT applies to entire entry | AT Column 1.
UN applies to entire entry | Rwanda.

License Exceptions

LVS: $5000, except N/A for Rwanda

GBS: N/A

CIV: N/A

* * * * *

6E001 “Technology” according to the General Technology Note for the “development” of equipment, materials or “software” controlled by 6A (except 6A018, 6A991, 6A992, 6A994, 6A995, 6A996, 6A997, or 6A998), 6B (except 6B995), 6C (except 6C992 or 6C994), or 6D (except 6D991, 6D992, or 6D993).

License Requirements

Reason for Control: NS, MT, NP, RS, CC, AT, UN.

Control(s) | Country chart
NS applies to “technology” for items controlled by 6A001 to 6A008, 6B004 to 6B008, 6C002 to 6C005, or 6D001 to 6D003 | NS Column 1.
MT applies to “technology” for items controlled by 6A002, 6A007, 6A008, 6A102, 6A107, 6A108, 6B008, 6B108, 6D001, 6D002, 6D102 or 6D103 for MT reasons | MT Column 1.
NP applies to “technology” for equipment controlled by 6A003, 6A005, 6A202, 6A203, 6A205, 6A225 or 6A226 for NP reasons | NP Column 2.
RS applies to “technology” for equipment controlled by 6A002 or 6A003 for RS reasons | RS Column 1.
CC applies to “technology” for equipment controlled by 6A002 for CC reasons | CC Column 1.
AT applies to entire entry | AT Column 1.
UN applies to “technology” for equipment controlled by 6A002 or 6A003 for UN reasons | Rwanda.

License Requirement Notes: See § 743.1 of the EAR for reporting requirements for exports under License Exceptions.

License Exceptions

CIV: N/A

TSR: Yes, except for the following:

(1) Items controlled for MT reasons;

(2) Items controlled by 6A004.e; or

(3) Exports or reexports to destinations outside of Austria, Belgium, Canada, Denmark, Finland, France, Germany, Greece, Ireland, Italy, Japan, Luxembourg, the Netherlands, Portugal, Spain, Sweden, or the United Kingdom of “technology” for the “development” of the following: (a) Items controlled by 6A001.a.2.a.1, 6A001.a.2.a.2, 6A001.a.2.a.5, 6A001.a.2.b, 6A001.a.2.e., 6A002.a.1.c, 6A008.l.3, 6B008, 6D003.a; (b) Equipment controlled by 6A001.a.2.c or 6A001.a.2.f when specially designed for real time applications; or (c) “Software” controlled by 6D001 and specially designed for the “development” or “production” of equipment controlled by 6A008.l.3 or 6B008; or

(4) Exports or reexports to Rwanda.

* * * * *

6E002 “Technology” according to the General Technology Note for the “production” of equipment or materials controlled by 6A (except 6A018, 6A991, 6A992, 6A994, 6A995, 6A996, 6A997 or 6A998), 6B (except 6B995) or 6C (except 6C992 or 6C994).

License Requirements

Reason for Control: NS, MT, NP, RS, AT, CC, UN.

Control(s) | Country chart
NS applies to “technology” for equipment controlled by 6A001 to 6A008, 6B004 to 6B008, or 6C002 to 6C005 | NS Column 1.
MT applies to “technology” for equipment controlled by 6A002, 6A007, 6A008, 6A102, 6A107, 6A108, 6B008, or 6B108 for MT reasons | MT Column 1.
NP applies to “technology” for equipment controlled by 6A003, 6A005, 6A202, 6A203, 6A205, 6A225 or 6A226 for NP reasons | NP Column 1.
RS applies to “technology” for equipment controlled by 6A002 or 6A003 for RS reasons | RS Column 1.
CC applies to “technology” for equipment controlled by 6A002 for CC reasons | CC Column 1.
AT applies to entire entry | AT Column 1.
UN applies to “technology” for equipment controlled by 6A002 or 6A003 for UN reasons | Rwanda.

License Requirement Notes: See § 743.1 of the EAR for reporting requirements for exports under License Exceptions.

License Exceptions

CIV: N/A

TSR: Yes, except for the following:

(1) Items controlled for MT reasons;

(2) Items controlled by 6A004.e; or

(3) Exports or reexports to destinations outside of Austria, Belgium, Canada, Denmark, Finland, France, Germany, Greece, Ireland, Italy, Japan, Luxembourg, the Netherlands, Portugal, Spain, Sweden, or the United Kingdom of “technology” for the “development” of the following: (a) Items controlled by 6A001.a.2.a.1, 6A001.a.2.a.2, 6A001.a.2.a.5, 6A001.a.2.b, and 6A001.a.2.c; and (b) Equipment controlled by 6A001.a.2.e and 6A001.a.2.f when specially designed for real time applications; or (c) “Software” controlled by 6D001 and specially designed for the “development” or “production” of equipment controlled by 6A002.a.1.c, 6A008.1.3 or 6B008; or

(4) Exports or reexports to Rwanda.

* * * * *

16. In Category 8—Marine, Export Control Classification Number (ECCN) 8A018 is amended by revising the “License Requirements” section and the “License Exceptions” section to read as follows:

8A018 Items on the International Munitions List.

License Requirements

Reason for Control: NS, AT, UN.

Control(s) | Country chart
NS applies to entire entry | NS Column 1.
AT applies to entire entry | AT Column 1.
UN applies to entire entry | Rwanda.

License Exceptions

LVS: $5000, except N/A for Rwanda

GBS: N/A

CIV: N/A

17. In Category 9—Propulsion Systems, Space Vehicles and Related Equipment, the following Export Control Classification Number (ECCNs) are amended:

a. By revising the “License Requirements” section and “License Exceptions” section for ECCN 9A018; and

b. By revising the “License Requirements” section for ECCNs 9A991, 9D018 and 9E018, to read as follows:

9A018 Equipment on the International Munitions List.

License Requirements

Reason for Control: NS, RS, AT, UN.

Control(s) | Country chart
NS applies to entire entry | NS Column 1.
RS applies to 9A018.a and b | RS Column 2.
AT applies to entire entry | AT Column 1.
UN applies to entire entry | Rwanda.

License Exceptions

LVS: $1500, except N/A for Rwanda

GBS: N/A

CIV: N/A

* * * * *

9A991 “Aircraft”, n.e.s., and gas turbine engines not controlled by 9A001 or 9A101 and parts and components, n.e.s.

License Requirements

Reason for Control: AT, UN.

Control(s) | Country chart
AT applies to entire entry | AT Column 1.
UN applies to 9A991.a | Rwanda.

* * * * *

9D018 “Software” for the “use” of equipment controlled by 9A018.

License Requirements

Reason for Control: NS, RS, AT, UN.

Control(s) | Country chart
NS applies to entire entry | NS Column 1.
RS applies to 9A018.a and .b | RS Column 2.
AT applies to entire entry | AT Column 1.
UN applies to entire entry | Rwanda.

* * * * *

9E018 “Technology” for the “development”, “production”, or “use” of equipment controlled by 9A018.

License Requirements

Reason for Control: NS, RS, AT, UN.

Control(s) | Country chart
NS applies to entire entry | NS Column 1.
RS applies to 9A018.a and .b | RS Column 2.
AT applies to entire entry | AT Column 1.
UN applies to entire entry | Rwanda.

* * * * *

Dated: November 8, 2002.
James J. Jochum,
Assistant Secretary for Export Administration.

[FR Doc. 02-29222 Filed 11-22-02; 8:45 am]

BILLING CODE 3410-33-P